COMMISSION ON CIVIL RIGHTS

Agenda and Notice of Public Meeting of the Tennessee Advisory Committee

Notice is hereby given, pursuant to the provisions of the rules and regulations of the U.S. Commission on Civil Rights (Commission) and the Federal Advisory Committee Act (FACA) that a meeting of the Tennessee Advisory Committee (Committee) to the Commission will be held on December 11, 2013, at the Nashville Public Library, 615 Church Street, Nashville, TN 37219. The meeting is scheduled to begin at 2:00 p.m. EST and adjourn at approximately 3:30 p.m. EST. The purpose of the meeting is to discuss the Committee's report on ex-felon voting rights and plan other Committee projects.

Members of the public are entitled to submit written comments. The comments must be received in the Southern Regional Office of the Commission by January 11, 2014. The address is Southern Regional Office, U.S. Commission on Civil Rights, 61 Forsyth Street SW., Suite 16T126, Atlanta, GA 30303. Persons wishing to email their comments or who desire additional information should contact Peter Minarik, Regional Director of the Southern Regional Office, at (404) 562-7000 (or for hearing impaired TDD 913-551-1414), or by email to pminarik@usccr.gov. Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, www.usccr.gov, or to contact the Southern Regional Office at the above email or street address. The meeting will be conducted pursuant to the provisions of the rules and regulations of the Commission and FACA.

Dated: November 15, 2013.
David Mussatt,
Acting Chief, Regional Programs Coordination Unit.

[FR Doc. 2013-27818 Filed 11-19-13; 8:45 am]

BILLING CODE 6335-01-P